DEPARTMENT OF ENERGY

Federal Energy Regulatory Commission

Combined Notice of Filings

Take notice that the Commission has received the following Natural Gas Pipeline Rate and Refund Report filings:

Filings Instituting Proceedings

Docket Numbers: RP21-1097-000.

Applicants: Natural Gas Pipeline Company of America LLC.

Description: § 4(d) Rate Filing: Amendment to a Negotiated Rate Agreement Filing-Shell Energy to be effective 9/3/2021.

Filed Date: 9/3/21.

Accession Number: 20210903-5120.

Comment Date: 5 pm ET 9/15/21.

Docket Numbers: RP21-1098-000.

Applicants: Natural Gas Pipeline Company of America LLC.

Description: § 4(d) Rate Filing: Negotiated Rate Agreements Filing—Woodriver Energy LLC to be effective 9/3/2021.

Filed Date: 9/3/21.

Accession Number: 20210903-5121.

Comment Date: 5 pm ET 9/15/21.

Docket Numbers: RP21-1099-000.

Applicants: Tennessee Gas Pipeline Company, L.L.C.

Description: Compliance filing: Informational Filing Concerning Market-Based Rate Authority.

Filed Date: 9/3/21.

Accession Number: 20210903-5175.

Comment Date: 5 pm ET 9/15/21.

Docket Numbers: RP21-1100-000.

Applicants: HG Energy II Appalachia, LLC, Loan Asset Issuer LLC, Series 2021 NG-1.

Description: Joint Petition for Limited Waiver of Capacity Release Regulations, et al. of HG Energy II Appalachia, LLC, et al.

Filed Date: 9/3/21.

Accession Number: 20210903-5197.

Comment Date: 5 pm ET 9/10/21.

Docket Numbers: RP21-1101-000.

Applicants: Gulf South Pipeline Company, LLC.

Description: § 4(d) Rate Filing: Creditworthiness Provision Clarification to be effective 10/8/2021.

Filed Date: 9/7/21.

Accession Number: 20210907-5041.

Comment Date: 5 pm ET 9/20/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 7, 2021.
Debbie-Anne A. Reese,
Deputy Secretary.

[FR Doc. 2021-19744 Filed 9-13-21; 8:45 am]

BILLING CODE 6717-01-P